DEPARTMENT OF HEALTH AND HUMAN SERVICES

NIAID Blue Ribbon Panel Meeting on Adjuvant Discovery and Development

Notice is hereby given that the National Institute of Allergy and Infectious Diseases (NIAID), a component of the National Institutes of Health (NIH) of the Department of Health and Human Services (DHHS), will convene a Blue Ribbon Panel to provide expertise in developing a strategic plan and research agenda for the discovery, development and clinical evaluation of adjuvants for use with preventive vaccines. NIAID has developed a draft Strategic Plan and Research Agenda for Adjuvant Discovery and Development, which summarizes the current status of research in the field of preventive vaccine adjuvants, identifies gaps in knowledge and capabilities, and defines NIAID's goals for the continued discovery, development and application of adjuvants for human vaccines that protect against infectious disease. The Panel will review the draft Strategic Plan and Research Agenda and recommend ways the NIAID can enhance its adjuvant research programs.

DATES: November 17-18, 2010.

ADDRESSES: The meeting location is: Rockville—Hilton Hotel (Roosevelt Room), 1750 Rockville Pike, Rockville, MD 20850.

FOR FURTHER INFORMATION CONTACT: Ms. Grace Tollini-Farrell, 301-496-7551.

Dated: October 21, 2010.
Daniel Rotrosen,
Director, Division of Allergy, Immunology and Transplantation, NIAID, National Institutes of Health.

[FR Doc. 2010-27317 Filed 10-28-10; 8:45 am]

BILLING CODE 4140-01-P